DEPARTMENT OF EDUCATION

Office of Special Education and Rehabilitative Services

Overview Information

Personnel Development to Improve Services and Results for Children with Disabilities—Principal Leadership Professional Development Center to Support School Improvement to Ensure Access to, and Participation and Progress in the General Education Curriculum in the Least Restrictive Environment.

Notice inviting applications for new awards for fiscal year (FY) 2006.

Catalog of Federal Domestic Assistance (CFDA) Number: 84.325P.

Dates:

Applications Available: February 9, 2006.

Deadline for Transmittal of Applications: March 24, 2006.

Deadline for Intergovernmental Review: May 23, 2006.

Eligible Applicants: Institutions of higher education (IHEs).

Estimated Available Funds: $285,000.

Maximum Award: We will reject any application that proposes a budget exceeding $285,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: The purposes of this program are to (1) help address State-identified needs for highly qualified personnel—in special education, related services, early intervention, and regular education—to work with infants or toddlers with disabilities, or children with disabilities; and (2) ensure that those personnel have the skills and knowledge—derived from practices that have been determined through research and experience to be successful—that are needed to serve those children.

Priority: In accordance with 34 CFR 75.105(b)(2)(v), this priority is from allowable activities specified in the statute (see sections 662(d) and 681(d) of the Individuals with Disabilities Education Act (IDEA)).

Absolute Priority: For FY 2006 this priority is an absolute priority. Under 34 CFR 75.105(c)(3), we consider only applications that meet this priority.

This priority is:

Principal Leadership Professional Development Center to Support School Improvement to Ensure Access to, and Participation and Progress in the General Education Curriculum in the Least Restrictive Environment

Background

Principal leadership is an essential element of school improvement that entails simultaneous attention to effective and efficient service delivery, use of resources, and academic performance. Successful principals use a variety of strategies and tools to leverage improvement on a school-wide basis, for all students including students with disabilities. For example, effective principals often build partnerships with families, business leaders, and community organizations, and establish and mobilize leadership teams to assess community resources, align initiatives, and design and implement coherent strategic plans to support student success. Principal leadership guides students, families, school personnel, and community partners through the development, design, implementation, and evaluation of coherent and evidence-based systemic school improvement strategies. Effective principals also mentor and coach teachers to build school capacity to ensure that all students have access to a content-rich general education curriculum and instructional supports to achieve academic success.

Unfortunately, there is a gap between evidence-based best practice and current practice in principal leadership and implementation of school improvement activities. This gap is particularly evident in providing access to the general education curriculum in the least restrictive environment for students with disabilities.

Many principals have difficulty with the logistics of establishing inclusive classrooms due to the small number of highly qualified special education teachers who have full schedules and caseloads, causing many schools to group special education students together rather than assign them general education classrooms with supplementary supports. According to the Special Education Elementary Longitudinal Study (2004), 45 percent of elementary and middle school students with disabilities receive their primary language arts instruction in special education settings—resource rooms, self-contained special education classes, or one-to-one instruction rather than in the general education classroom. According to the National Longitudinal Transition Study 2 (2003), even when physically present in the general education classroom, students with disabilities consistently participate less actively than their classmates in their general education academic classes. In 2005, of the students with disabilities included in the sample for the National Assessment of Educational Progress, 35 percent were excluded from the fourth-grade reading assessment and 19 percent were excluded from fourth-grade math assessment because of their disability. Furthermore, according to the 22nd Annual Report to Congress, 31 percent of special education students ages 14 to 21 drop out of school. These statistics demonstrate that there is a compelling need for principals to implement school improvement activities that ensure that students with disabilities have access to, and participate and progress in the general education curriculum in the least restrictive environment.

Priority

The Assistant Secretary establishes an absolute priority for the establishment of a Principal Leadership Professional Development Center to Support School Improvement to Ensure Access to, and Participation and Progress in the General Education Curriculum in the Least Restrictive Environment (PD Center). The purpose of the PD Center is to support principals in their efforts to implement unified school improvement initiatives that are designed to ensure students with disabilities have access to, and participate and progress in the general education curriculum in the least restrictive environment.

The PD Center must:

• Assist a cadre of principals in the development, implementation, and continuous improvement of school improvement efforts using evidence-based practices to ensure that students with disabilities have access to, and participate and progress in the general education curriculum in the least restrictive environment;

• Support networks of principals engaged in school improvement efforts that include students with disabilities;

• Create partnerships among principal professional associations, school and university personnel, and business leaders to promote and support principal leadership for school improvement and inclusion of students with disabilities across the Nation; and

• Use existing principal professional organization networks to inform the PD Center's activities and serve as dissemination vehicles.

To meet this priority, the PD Center must:

(a) Build the capacity of principals to use evidence-based school improvement practices to ensure access to, and participation and progress in the general education curriculum in the least restrictive environment for students with disabilities at the kindergarten through grade 12 levels;

(b) Provide training and onsite professional development to principals in partnership with at least 30 schools to lead school improvement initiatives that focus on enhancing access to, and participation and progress in the general education curriculum in the least restrictive environment for students with disabilities;

(c) Identify and widely disseminate the most successful evidence-based school systemic improvement practices available to principals throughout the United States for school improvement activities that ensure access to, and participation and progress in the general education curriculum in the least restrictive environment for students with disabilities. To the extent possible, the Center should use criteria from the What Works Clearinghouse (WWC) and other rigorous sources in determining what is “evidenced-based”;

(d) Complete a synthesis of available research literature within the first six months of the project start date. To the extent possible, the PD Center will consult with sources such as the WWC, the Access Center: Improving Outcomes for All Students K-9 that is funded by the Department's Office of Special Education Programs (OSEP), and the review board of OSEP's Dissemination Center. The synthesis must include: (1) A summary of the research literature describing promising evidence-based school improvement instruction and progress-monitoring practices in elementary, middle, and secondary schools that ensure access to, and participation and progress in the general education curriculum in the least restrictive environment for students with disabilities to ensure schools meet adequate yearly progress indicators; (2) a conceptual framework using evidence-based research practices within a coherent decision-making model to support the adoption, implementation, evaluation, sustainability, and scaling up of school improvement strategies that ensure access to, and participation and progress in the general education curriculum in the least restrictive environment for students with disabilities; (3) a description of evidence-based practices that may be used to foster and maintain partnerships between schools and families to support school improvement activities; (4) a description of effective approaches to professional development and capacity-building within schools that ensure access to, and participation and progress in the general education curriculum in the least restrictive environment for students with disabilities; and (5) a description of how effective principal leaders integrate assessment, curriculum and instruction with learning standards, teaching design and practicum, and family participation in teaching and learning, in a comprehensive aligned professional development model to guide systemic implementation at classroom and school levels;

(e) In years 1 through 3 of the project period, identify, implement, and evaluate strategies that support effective principals in partnership with at least 30 schools to provide examples of effective school improvement implementation of evidence-based and promising practices that ensure access to, and participation and progress in the general education curriculum in the least restrictive environment for students with disabilities. At a minimum, the PD Center must work with these 30 partner schools to: (1) Identify and define the scope and sequence of ongoing professional development training content as well as strategies to measure the acquisition, fidelity, and fluency of implementation at the classroom and school levels; (2) establish classroom and school structures to increase school improvement capacity for ongoing professional development and training; and (3) describe how principals work with school and district leaders to incorporate these strategies into ongoing district policy and practice;

(f) Based on lessons learned with principal leaders and school improvement efforts in years 1 through 3 of the project period, replicate and scale up the PD Center's implementation with an additional 200 schools in year 4 of the project period;

(g) Establish, maintain, and meet at least annually with a national advisory group of principal leaders from urban, suburban, and rural schools to provide feedback on the plans, activities, and accomplishments of the PD Center in collaboration with the OSEP Project Officer;

(h) Use external and internal evaluators to measure and report to OSEP on the progress of the PD Center activities included in paragraphs (a) through (f) in this priority;

(i) Meet with the OSEP Project Officer and appropriate OSEP staff within the first month of the project start date;

(j) Budget for the PD Center's project director to attend a three-day Project Director's Meeting in Washington, DC and an additional two-day trip annually to Washington, DC to attend an additional Project Director's meeting and to meet and collaborate with the OSEP Project Officer and other funded projects for purposes of cross-project collaboration and information exchange; and

(k) If a Web site is maintained, ensure that the information and documents available on the Web site are in a format that meets a government or industry-recognized standard for accessibility.

Fourth and Fifth Years of the Project

In deciding whether to continue funding the PD Center for the fourth and fifth years, the Secretary, will consider the requirements of 34 CFR 75.253(a), and in addition:

(a) The recommendation of a review team consisting of experts selected by the Secretary, which review will be conducted during the last half of the project's second year in Washington, DC. Projects must budget for the travel associated with this review;

(b) The timeliness and effectiveness with which all requirements of the negotiated cooperative agreement have been or are being met by the project; and

(c) The degree to which the project's design and methodology demonstrate the potential for advancing significant new knowledge.

Waiver of Proposed Rulemaking: Under the Administrative Procedure Act (APA) (5 U.S.C. 553) the Department generally offers interested parties the opportunity to comment on a proposed priority. However, section 681(d) of IDEA makes the public comment requirements of the APA inapplicable to the priority in this notice.

Program Authority: 20 U.S.C. 1462 and 1481(d).

Applicable Regulations: The Education Department General Administrative Regulations (EDGAR) in 34 CFR parts 74, 75, 77, 79, 80, 81, 82, 84, 85, 86, 97, 98, and 99.

II. Award Information

Type of Award: Cooperative agreement.

Estimated Available Funds: $285,000.

Maximum Award: We will reject any application that proposes a budget exceeding $285,000 for a single budget period of 12 months. The Assistant Secretary for Special Education and Rehabilitative Services may change the maximum amount through a notice published in the Federal Register.

Number of Awards: 1.

Note: The Department is not bound by any estimates in this notice.

Project Period: Up to 60 months.

III. Eligibility Information

1. Eligible Applicants: IHEs.

2. Cost Sharing or Matching: This competition does not involve cost sharing or matching.

3. Other: General Requirements— (a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.325P.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if:

• You apply these standards and exceed the page limit; or

• You apply other standards and exceed the equivalent of the page limit.

3. Submission Dates and Times:

Applications Available: February 9, 2006.

Deadline for Transmittal of Applications: March 24, 2006.

Applications for grants under this competition may be submitted electronically using the Grants.gov Apply site (Grants.gov), or in paper format by mail or hand delivery. For information (including dates and times) about how to submit your application electronically, or by mail or hand delivery, please refer to section IV.6. Other Submission Requirements in this notice.

We do not consider an application that does not comply with the deadline requirements.

Deadline for Intergovernmental Review: May 23, 2006.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2006. Principal Leadership Professional Development Center to Support School Improvement to Ensure Access to, and Participation and Progress in the General Education Curriculum in the Least Restrictive Environment—CFDA Number 84.325P is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for the Principal Leadership Professional Development Center to Support School Improvement to Ensure Access to, and Participation and Progress in the General Education Curriculum in the Least Restrictive Environment—CFDA Number 84.325P competition at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text) or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.325P), 400 Maryland Avenue, SW., Washington, DC 20202-4260; or

By mail through a commercial carrier: U.S. Department of Education, Application Control Center—Stop 4260, Attention: (CFDA Number 84.325P), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.325P), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department has developed measures that will yield information on various aspects of the technical assistance and dissemination activities currently being supported under IDEA Part D. These measures will be used for the Principal Leadership Professional Development Center to Support School Improvement to Ensure Access to, and Participation and Progress in the General Education Curriculum in the Least Restrictive Environment competition, and they focus on: The extent to which projects provide high quality products and services, the relevance of project products and services to educational and early intervention policy and practice, and the use of products and services to improve educational and early intervention policy and practice.

We will notify grantees if they will be required to provide any information related to these measures.

Grantees will also be required to report information on their projects' performance in annual reports to the Department (34 CFR 75.590).

VII. Agency Contact

FOR FURTHER INFORMATION CONTACT: Anne Smith, U.S. Department of Education, 400 Maryland Avenue, SW., room 4086, Potomac Center Plaza, Washington, DC 20202-2600. Telephone: (202) 245-7529.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 6, 2006.
John H. Hager,
Assistant Secretary for Special Education and Rehabilitative Services.

[FR Doc. E6-1805 Filed 2-8-06; 8:45 am]

BILLING CODE 4000-01-P